DEPARTMENT OF ENERGY

Federal Energy Regulatory Commission

[Docket No. RP03-526-000]

Overthrust Pipeline Company; Notice of Tariff Filing

June 24, 2003.

Take notice that on June 18, 2003, Overthrust Pipeline Company (Overthrust), tendered for filing as part of its FERC Gas Tariff, First Revised Volume No. 1-A, 1st Rev. Fifth Revised Sheet No. 54 and 1st Rev. Sixth Revised Sheet No. 54, to be effective as indicated on each tariff sheet.

Overthrust states that this filing combines approved language from two separate proceedings in separate dockets. Overthrust explains that the tariff language in each docket was independently filed in compliance with individual orders. Overthrust states that this filing (1) rectifies tariff sheet pagination so that effective dates are in chronological order and (2) combines conforming language.

Overthrust states that a copy of this filing has been served upon its customers and the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 30, 2003.

Magalie R. Salas,
Secretary.

[FR Doc. 03-16445 Filed 6-27-03; 8:45 am]

BILLING CODE 6717-01-P